DEPARTMENT OF ENERGY

Federal Energy Regulatory Commission

[Docket No. PF13-5-000]

Transcontinental Gas Pipe Line Company, LLC; Notice of Intent To Prepare an Environmental Assessment for the Planned Leidy Southeast Expansion Project, Request for Comments on Environmental Issues, and Notice of Public Scoping Meetings

The staff of the Federal Energy Regulatory Commission (FERC or Commission) will prepare an environmental assessment (EA) that will discuss the environmental impacts of the Leidy Southeast Expansion Project involving construction and operation of facilities by Transcontinental Gas Pipe Line Company, LLC (Transco) in Pennsylvania, New Jersey, Maryland, Virginia, and North Carolina. The Commission will use this EA in its decision-making process to determine whether the project is in the public convenience and necessity.

This notice announces the opening of the scoping process the Commission will use to gather input from the public and interested agencies on the project. Your input will help the Commission staff determine what issues they need to evaluate in the EA. The Commission staff will also use the scoping process to help determine whether preparation of an environmental impact statement is more appropriate for this project based upon the potential significance of the anticipated levels of impact. Please note that the scoping period will close on June 24, 2013. This is not your only public input opportunity; please refer to the Environmental Review Process flow chart in appendix 1.¹

¹ The appendices referenced in this notice are not being printed in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

You may submit comments in written form or verbally. Further details on how to submit written comments are in the Public Participation section of this notice. In lieu of or in addition to sending written comments, the Commission invites you to attend the public scoping meeting(s) scheduled as follows:

Date and time | Location
June 12, 2013, 7:00 PM | The Woodlands Inn, 1073 Highway 315, Wilkes-Barre, PA 18702.
June 13, 2013, 7:00 PM | Hillsborough Township Middle School, 260 Triangle Road, Hillsborough Township, NJ 08844.

The scoping meetings will commence at the times listed above; however, representatives from Transco will be present one hour before each meeting to describe their proposal, present maps, and answer questions.

This notice is being sent to the Commission's current environmental mailing list for this project. State and local government representatives should notify their constituents of this proposed project and encourage them to comment on their areas of concern.

If you are a landowner receiving this notice, a pipeline company representative may contact you about the acquisition of an easement to construct, operate, and maintain the proposed facilities. The company would seek to negotiate a mutually acceptable agreement. However, if the Commission approves the project, that approval conveys with it the right of eminent domain. Therefore, if easement negotiations fail to produce an agreement, the pipeline company could initiate condemnation proceedings where compensation would be determined in accordance with state law.

Transco provided landowners with a fact sheet prepared by the FERC entitled “An Interstate Natural Gas Facility On My Land? What Do I Need To Know?”. This fact sheet addresses a number of typically-asked questions, including the use of eminent domain and how to participate in the Commission's proceedings. It is also available for viewing on the FERC Web site (www.ferc.gov).

Summary of the Planned Project

Transco plans to build approximately 30.1 miles of 42-inch-diameter natural gas pipeline in four loop ² segments, consisting of 6.4 miles in Mercer and Somerset Counties, New Jersey (Skillman Loop), 6.9 miles in Somerset and Hunterdon Counties, New Jersey (Pleasant Run Loop), 11.5 miles in Monroe and Luzerne Counties, Pennsylvania (Franklin Loop), and 5.3 miles in Luzerne County, Pennsylvania (Dorrance Loop). The new pipeline loops would primarily be installed adjacent to Transco's existing rights-of-way.

² A pipeline loop is a segment of pipe constructed parallel (and is connected) to an existing pipeline to increase capacity.

The project would also include installing an approximate total of 84,500 horsepower of compression and making other modifications at existing compressor stations in Mercer County, New Jersey and Luzerne, Columbia, and Lycoming Counties, Pennsylvania, and modifying various existing valve sites and meter stations along Transco's mainline system in Maryland, Virginia, and North Carolina. As designed, the project would enable Transco to provide an additional 525,000 dekatherms per day of natural gas transportation capacity from receipt points on Transco's Leidy Line in Pennsylvania to delivery points on Transco's mainline system as far south as Choctaw County, Alabama. A map depicting the general location of the project facilities is included in appendix 2.

Transco plans to begin construction of the project in late 2014 and place the facilities in service by December 2015.

Land Requirements for Construction and Operation

Transco is still in the planning phase for the project, and workspace requirements have not been finalized at this time. As currently planned, construction would disturb approximately 485 acres of land for the aboveground facilities and the pipeline loops. Following construction, about 95 acres outside of Transco's existing easement would be maintained for permanent operation of the project facilities. The remaining acreage would be restored and allowed to revert to former uses. As planned, the new pipeline loops would primarily be installed adjacent to Transco's existing pipeline system.

The EA Process

The National Environmental Policy Act (NEPA) requires the Commission to take into account the environmental impacts that could result from an action whenever it considers the issuance of a Certificate of Public Convenience and Necessity. NEPA also requires us ³ to discover and address concerns the public may have about proposals. This process is referred to as “scoping.” The main goal of the scoping process is to focus the analysis in the EA on the important environmental issues. By this notice, the Commission requests public comments on the scope of the issues to address in the EA. We will consider all filed comments during the preparation of the EA.

³ “Us,” “we,” and “our” refer to the environmental staff of the Commission's Office of Energy Projects.

In the EA we will discuss impacts that could occur as a result of the construction and operation of the planned project under these general headings:

• Geology and soils;

• Water resources, fisheries, and wetlands;

• Vegetation, wildlife, and endangered and threatened species;

• Socioeconomics;

• Cultural resources;

• Land use and cumulative impacts;

• Air quality and noise; and

• Public safety.

We will also evaluate reasonable alternatives to the proposed project or portions of the project, and make recommendations on how to lessen or avoid impacts on the various resource areas.

Although no formal application has been filed, we have already initiated our NEPA review under the Commission's Pre-filing Process. The purpose of the Pre-filing Process is to encourage early involvement of interested stakeholders and to identify and resolve issues before an application is filed with the FERC. As part of our pre-filing review, we have begun to contact some federal and state agencies to discuss their involvement in the scoping process and the preparation of the EA. In addition, representatives from FERC participated in the public open houses sponsored by Transco in the project area in April 2013 to explain the environmental review process to interested stakeholders.

The EA will present our independent analysis of the issues. The EA will be available in the public record through eLibrary. We will consider all comments on the EA before making our recommendations to the Commission. To ensure we have the opportunity to consider and address your comments, please carefully follow the instructions in the Public Participation section beginning on page 5.

With this notice, we are asking agencies with jurisdiction by law and/or special expertise with respect to the environmental issues of this project to formally cooperate with us in the preparation of the EA.⁴ Agencies that would like to request cooperating agency status should follow the instructions for filing comments provided under the Public Participation section of this notice. Currently, the U.S. Department of Transportation's Pipeline and Hazardous Materials Safety Administration has expressed its intention to participate as a cooperating agency in the preparation of the EA.

⁴ The Council on Environmental Quality regulations addressing cooperating agency responsibilities are at Title 40, Code of Federal Regulations, Part 1501.6.

Consultations Under Section 106 of the National Historic Perservation Act

In accordance with the Advisory Council on Historic Preservation's implementing regulations for section 106 of the National Historic Preservation Act, we are using this notice to initiate consultation with applicable State Historic Preservation Offices (SHPO), and to solicit their views and those of other government agencies, interested Indian tribes, and the public on the project's potential effects on historic properties.⁵ We will define the project-specific Area of Potential Effects (APE) in consultation with the SHPOs as the project is further developed. On natural gas facility projects, the APE at a minimum encompasses all areas subject to ground disturbance (examples include construction right-of-way, contractor/pipe storage yards, compressor stations, and access roads). Our EA for this project will document our findings on the impacts on historic properties and summarize the status of consultations under section 106.

⁵ The Advisory Council on Historic Preservation's regulations are at Title 36 of the Code of Federal Regulations, Part 800. Historic properties are defined in those regulations as any prehistoric or historic district, site, building, structure, or object included in or eligible for inclusion in the National Register for Historic Places.

Currently Identified Environmental Issues

We have already identified several issues that we think deserve attention based on a preliminary review of the planned facilities, the environmental information provided by Transco, and comments received by the public. This preliminary list of issues may be changed based on your comments and our analysis:

• Residential impacts, including the potential for decreased property values;

• Impacts on forest and unique habitats;

• Impacts on conservation lands;

• Impacts on water resources;

• The purpose and need for the project;

• Consideration of alternatives, including renewable energy sources; and

• Public safety.

Public Participation

You can make a difference by providing us with your specific comments or concerns about the project. Your comments should focus on the potential environmental effects, reasonable alternatives, and measures to avoid or lessen environmental impacts. The more specific your comments, the more useful they will be. To ensure that your comments are timely and properly recorded, please send your comments so that they will be received in Washington, DC on or before June 24, 2013.

For your convenience, there are four methods you can use to submit your comments to the Commission. In all instances, please reference the project docket number (PF13-5-000) with your submission. The Commission encourages electronic filing of comments and has expert eFiling staff available to assist you at (202) 502-8258 or efiling@ferc.gov.

1. You can file your comments electronically by using the eComment feature, which is located on the Commission's Web site at www.ferc.gov under the link to Documents and Filings. This is an easy method for interested persons to submit brief, text-only comments on a project;

2. You can file your comments electronically by using the eFiling feature, which is located on the Commission's Web site at www.ferc.gov under the link to Documents and Filings. With eFiling, you can provide comments in a variety of formats by attaching them as a file with your submission. New eFiling users must first create an account by clicking on “eRegister.” You must select the type of filing you are making. If you are filing a comment on a particular project, please select “Comment on a Filing”;

3. You can attend and provide either oral or written comments at a public scoping meeting. A transcript of each meeting will be made so that your comments will be accurately recorded and included in the public record; or

4. You can file a paper copy of your comments by mailing them to the following address: Kimberly D. Bose, Secretary, Federal Energy Regulatory Commission, 888 First Street NE., Room 1A, Washington, DC 20426

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

When the EA is published for distribution, copies will be sent to the environmental mailing list for public review and comment. If you would prefer to receive a paper copy of the document instead of the CD version, or would like to remove your name from the mailing list, please return the attached Information Request (appendix 3).

Becoming an Intervenor

Once Transco files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are included in the User's Guide under the “e-Filing” link on the Commission's Web site. Please note that the Commission will not accept requests for intervenor status at this time. You must wait until a formal application for the project is filed with the Commission.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF13-5). Be sure you have selected an appropriate date range. For assistance, please contact FERC Online Support at FercOnlineSupport@ferc.gov or toll free at (866) 208-3676, or for TTY, contact (202) 502-8659. The eLibrary link also provides access to the text of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Public meetings or site visits will be posted on the Commission's calendar located at www.ferc.gov/EventCalendar/EventsList.aspx along with other related information.

Finally, Transco has established a Web site for this project at http://leidysoutheast.wordpress.com/. The Web site includes a project overview, environmental information, and information for affected stakeholders.

Dated: May 24, 2013.
Kimberly D. Bose,
Secretary.

[FR Doc. 2013-13117 Filed 6-3-13; 8:45 am]

BILLING CODE 6717-01-P